DEPARTMENT OF AGRICULTURE

Forest Service

Fuel Reduction Activities Within the City of Bozeman's Municipal Watershed on the Gallatin National Forest and City of Bozeman Lands, Montana; Gallatin National Forest; Gallatin County, MT

AGENCY: Forest Service, USDA.

ACTION: Notice; intent to prepare environmental impact statement.

SUMMARY: The USDA, Forest Service, will prepare an environmental impact statement (EIS) to disclose the environmental effects of a proposed fuels reduction project that will help maintain the water supply to the City of Bozeman. The project's purpose and need is to begin reducing the potential severity and extent and future wildland fires in the Bozeman and Hyalite Municipal Watersheds, begin creating vegetation and fuel conditions that will reduce the risk of excess sediment and ash reaching the municipal water treatment plant in the event of a sever wildland fire, begin creating vegetation and fuel conditions that will provide for firefighter and public safety by modifying potential fire behavior, and reduce fuel conditions in the wildland/urban interface (WUI). A range of 3 to 5 alternatives are targeted for consideration in this planning process.

DATES: Initial comments on this proposal should be received by November 11, 2005.

ADDRESSES: Written comments should be sent to Jim Devitt, Gallatin National Forest Supervisors Office, P.O. Box 130, Bozeman, Montana 59771-0130.

FOR FURTHER INFORMATION CONTACT: Jim Devitt, Bozeman Municipal Watershed Project Interdisciplinary Team Leader, Gallatin National Forest Supervisors Office, (406) 587-6749.

SUPPLEMENTARY INFORMATION: The purpose of this project, as identified by the Gallatin National Forest and the City of Bozeman, is to maintain a high-quality, long term, and predictable water supply for Bozeman area residents. The Bozeman Municipal Watershed analysis area is a landscape dominated by steep canyons and timbered slopes. The two drainages are very popular and receive heavy use for outdoor recreation activities such as pleasure driving, hiking, biking, camping, picnicking, fishing, and hunting, to name a few. The Bozeman Municipal Water project will apply to portions of National Forest System Lands and City of Bozeman land within the Bozeman and Hyalite Watersheds. There are several homes and sub-divisions within one half mile of the forest boundary or within the WUI. Fire simulation models showed that a large fire started in either Bozeman Creek or Hyalite Creek could easily burn into the adjacent drainage, resulting in a situation where both major sources of city water supply are simultaneously impacted. The Forest Service and City of Bozeman believe it is timely to begin addressing this project's purpose. The purpose and need for this project would be achieved by (1) Maintaining low fire severity conditions through prescribed burning. (2) Maintaining the effectiveness of the riparian filtration zone by removing or cutting conifers to invigorate shrub communities. (3) Treating invasive weed species to maintain native communities and allow the riparian area to function as efficiently as possible.

The Forest Service is looking for ways to do innovative treatments to address this project's purpose and need. Potential fuel activities being considered include treating up to 6,000 total acres, including a small portion of the Gallatin Divide Inventoried Roadless Area in the Bozeman Creek watershed, and treating up to 3,000 acres in the Hyalite Creek watershed with a combination of prescribed burning, thinning, brush cutting, and commercial tree harvest.

To facilitate public comment, the Forest Service has prepared a scoping document. This document identifies a one possible set of treatment options and can be viewed on the Gallatin National Forest Web site at http://www.fs.fed.us/r1/gallatin. A copy can be also be obtained by calling or writing the contact person identified above. The scooping comment period will end November 11, 2005.

Comments on the scoping document from the public and other agencies will be used in preparation of a Draft Environmental Impact Statement (DEIS). More specifically, comments will be used to modify and refine the alternatives and identify potential resources issues (environmental effects) that should be considered in analysis.

The Draft EIS is expected to be filed with the Environmental Protection Agency (EPA) and available for public review in June of 2006. At that time, the EPA will publish a Notice of Availability of the Draft EIS in the Federal Register. The comment period on the Draft EIS is estimated to be 45 days from the date the EPA's notice of availability appears in the Federal Register. The Final EIS is scheduled for completion in the spring of 2007.

To assist the Forest Service in identifying and considering issues, comments should be specific to concerns associated with the fuel reduction activities within a municipal watershed. Reviewers may wish to refer to the Council on Environmental Quality Regulations for implementing the procedural provisions of the National Environmental Policy Act at 40 CFR 1503.3 in structuring comments.

The Forest Service believes, at this early stage, it is important to give reviewers notice of several court rulings related to public participation in the environmental review process. First, reviewers of draft environmental impact statements must structure their participation in the environmental review of the proposal so that it is meaningful and alerts an agency to the reviewer's position and contentions. Vermont Yankee Nuclear Power Corp v. NRDC, 435 U.S. 519, 533 (1978). Also, environmental objections that could be raised at the draft environmental impact statement stage but that are not raised until after completion of the final environmental impact statement may be waived or dismissed by the courts. City of Angoon v. Hodel, 803 F.2d 1016, 1022 (9th Cir. 1986) and Wisconsin Heritages, Inc. v. Harris, 490 F. Supp. 1334, 1338 (E.D. Wis. 1980). Because of these court rulings, it is very important that those interested in this proposed action participate during comment periods provided so that substantive comments and objections are made available to the Forest Service at a time when they can meaningfully consider them. To assist the Forest Service in identifying and considering issues, comments should be specific to concerns associated with the management of roads and trails on the Gallatin National Forest. Reviewers may wish to refer to the Council on Environmental Quality Regulations for implementing the procedural provisions of the National Environmental Policy Act at 40 CFR 1503.3 in structuring comments.

I am the responsible official for this Environmental Impact Statement and the ultimate decision for a Bozeman Watershed Project. My address is Forest Supervisor, Gallatin National Forest, P.O. Box 130, Federal Building, Bozeman, MT 59771.

Dated: October 7, 2005.
Rebecca Heath,
Forest Supervisor.

[FR Doc. 05-20788 Filed 10-17-05; 8:45 am]

BILLING CODE 3410-11-M